COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products to the Procurement List that will be furnished by nonprofit agency employing persons who are blind or have other severe disabilities, and deletes products previously furnished by such agencies.

DATES: Comments must be received on or before June 5, 2016.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products listed below from nonprofit agency employing persons who are blind or have other severe disabilities.

The following products are proposed for addition to the Procurement List for production by the nonprofit agency listed:

Products

NSN(s)—Product Name(s)

6135-00-985-7845—Battery, Non-Rechargeable, AA, Alkaline

6135-00-826-4798—Battery, Non-Rechargeable, AAA, Alkaline

Mandatory Source(s) of Supply: Eastern Carolina Vocational Center, Inc., Greenville, NC

Mandatory for: Total Government Requirement

Contracting Activity: Defense Logistics Agency Land and Maritime

Distribution: A List

Deletions

The following products are proposed for deletion from the Procurement List:

Products

NSN(s)—Product Name(s): 3990-00-NSH-0065—Skid, Wood

Contracting Activity: Government Printing Office

NSN(s)—Product Name(s):

8470-01-442-2990—Suspension Assembly for PASGT Helmet

8470-01-442-2995

8470-01-442-3001

8470-01-442-3021

Mandatory Source(s) of Supply:

Georgia Industries for the Blind

Travis Association for the Blind

Winston-Salem Industries for the Blind, Inc.

Contracting Activity: Defense Logistics Agency Troop Support

NSN(s)—Product Name(s)

8415-01-580-0038—Cover, Helmet, Advanced Combat, Multi Camouflage, Large/X-Large

8415-01-580-0064—Cover, Helmet, Advanced Combat, Multi Camouflage, Small/Medium

8415-01-580-0074—Cover, Helmet, Advanced Combat, Multi Camouflage, XX-Large

Mandatory Source(s) of Supply: Mount Rogers Community Services Board, Wytheville, VA

Contracting Activities:

Lions Volunteer Blind Industries, Inc., Morristown, TN

Army Contracting Command, Natick, MA

Defense Logistics Agency Troop Support

NSN(s)—Product Name(s)

7510-01-463-1985—Jumbo Refill, Ballpoint Pen “Aristocrat”

7510-01-463-1987—Jumbo Refill, Ballpoint Pen “Aristocrat”

7510-01-463-1988—Jumbo Refill, Ballpoint Pen “Aristocrat”

7510-01-463-1989—Jumbo Refill, Ballpoint Pen “Aristocrat”

7520-01-446-4500—Pen, Retractable, Cushion Grip, Exec. “Aristocrat”

7520-01-446-4503—Pen, Retractable, Cushion Grip, Exec. “Aristocrat”

7520-01-446-4504—Pen, Retractable, Cushion Grip, Exec. “Aristocrat”

7520-01-446-4505—Pen, Retractable, Cushion Grip, Exec. “Aristocrat”

Mandatory Source(s) of Supply: Industries of the Blind, Inc., Greensboro, NC

Contracting Activity: General Services Administration, New York, NY

NSN(s)—Product Name(s):

7530-01-555-2906—Paper, Tabulating Machine

Mandatory Source(s) of Supply: Tarrant County Association for the Blind, Fort Worth, TX

Contracting Activity: General Services Administration, New York, NY

NSN(s)—Product Name(s):

7530-00-800-0996—Paper, Tabulating Machine

Mandatory Source(s) of Supply:

The Lighthouse for the Blind, St. Louis, MO

Tarrant County Association for the Blind, Fort Worth, TX

Contracting Activity: General Services Administration, New York, NY

Barry S. Lineback,
Director, Business Operations.

[FR Doc. 2016-10708 Filed 5-5-16; 8:45 am]

BILLING CODE 6353-01-P